FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—03/26/2007
20070800 | Tesoro Corporation | John J. Moller | Palisades Gas and Wash, Inc., USA Gasoline Corporation, USA Petroleum Corporation, USA San Diego LLC.
TRANSACTIONS GRANTED EARLY TERMINATION—03/27/2007
20070802 | Tesoro Corporation | Royal Dutch Shell pic | Equilon Enterprises LLC dba Shell Oil Products USA.
20070983 | Campbell Timber Fund II, L.P | Menasha Forest Products Corporation | Menasha Forest Products Corporation.
20070988 | Trivest Fund III, L.P | Michael D. Horvitz | Twin-Star International, Inc.
20070989 | Trivest Fund III, L.P | Mark Asofsky | Twin-Star International, Inc.
20070992 | L'Oreal S.A | Douglas J. Von Allmen | Beauty Alliance, L.L.C.
TRANSACTIONS GRANTED EARLY TERMINATION—03/28/2007
20070915 | Apollo Investment Fund VI, L.P | Mr. Jean-Charles Naouri | Casino USA, Inc., Smart & Final Inc.
20070927 | Catterton Partners Comfort Holding, L.P | Leggett & Platt, Incorporated | Crest-Foam Corp., LEGGETT, L&P Financial Services Co., L&P Property Management Company.
20070938 | Deere & Company | LESCO, Inc | LESCO, Inc.
20070959 | JPMorgan Chase & Co | ArvinMeritor, Inc | ArvinMeritor Argentina S.A., ArvinMeritor Emissions Technologies Kft., ArvinMeritor Emissions Technologies SA (Proprietary) Limited, ArvinMeritor Emissions Technologies Spartansburg, Inc., ArvinMeritor ET B.V., ArvinMeritor Light Vehicle Systems (Chongqing) Co., Ltd., ArvinMeritor Light Vehicle Systems Parts (Shanghai) Co., Ltd., ArvinMeritor Light Vehicle Systems (Shanghai) Co., Ltd., ArvinMeritor Light Vehicle Systems (Yantai) Co., Ltd., Arvin Meritor Thailand, LLC, Arvin Veritor Emissions Technologies GmbH, Zeuna Starker Produzione Italia S.p.A.
TRANSACTIONS GRANTED EARLY TERMINATION—03/29/2007
20070905 | KCPC Holdings, Inc | Central Parking Corporation | Central Parking Corporation.
20070924 | Trian Partners, L.P | Tiffany & Co | Tiffany & Co.
20070925 | Trian Star Trust | Tiffany & Co | Tiffany & Co.
20070934 | Alon Israel Oil Company, Ltd | Skinny's Inc | Skinny's Inc.
20070978 | Brazos Equity Fund II, L.P | Amy Anderson Zicarelli | Ennis Paint, Inc.
20070979 | Brazos Equity Fund II, L.P | John Anderson | Ennis Paint, Inc.
TRANSACTIONS GRANTED EARLY TERMINATION—03/30/2007
20070880 | Garda World Security Corporation | Robert G. Irvin | ATI Systems International, Inc.
20070937 | Walgreen Co | Familymeds Group, Inc | Arrow Prescription Leasing Corp.
TRANSACTIONS GRANTED EARLY TERMINATION—04/02/2007
20070874 | Odyssey Investment Partners Fund III, LP | Diamond Castle Parners IV, L.P | NES Tank, L.P.
20070964 | CCG Investment Fund, L.P | Brian R. Kahn and Lauren Kahn, as Tenants by the Entirety | Veritek Manufacturing Services, LLC
20070985 | Telefonaktiebolaget LM Ericsson | TANDBERG Television ASA | TANDBERG Television ASA.
20070993 | Francisco Partners II, L.P | FX Solutions LLC | FX Solutions LLC.
20070994 | Castlerigg International Limited | Madison Dearborn Capital Patners IV, L.P | US Power Generating Company.
20070999 | Vector Stealth Holdings II, L.L.C | SafeNet, Inc | SafeNet, Inc.
20071000 | Gibraltar Industries, Inc | The Employee Ownership Holding Company, Inc | The Employee Ownership Holding Company, Inc.
20071001 | Madison Dearborn Capital Partners V-A, L.P | The Topps Company, Inc | The Topps Company, Inc.
20071004 | Lake Capital Partners II LP | Cornerstone Equity Investors IV, L.P | Vestor Investment Holdings, Inc.
20071006 | Rethmann AG & Co. KG | SHV Holdings N.V | Euro-Scrap Alliance B.V., SHV Recycling Germany GmbH, TSR Recycling Holding GmbH, TSR Recycling Verwaltung GmbH.
20071010 | Pitney Bowes Inc. | Maplinfo Corporation | Maplinfo Corporation.
20071011 | Fenway Partners Capital Fund III, L.P | Rick An | World Super Services, Inc.
20071013 | FIF III Liberty Holdings LLC | Helen K. Copley Revocable Trust | Copley Ohio Newspapers, Inc., The Peoria Journal Star, Inc.
20071016 | OCM Prinicipal Opportunities Fund IV, L.P | KKR 1996 GP LLC | Alliance Imaging, Inc.
20071019 | Statoil ASA | Norsk Hydro ASA | Norsk Hydro ASA.
20071022 | KKR 2006 Fund L.P | Dollar General Corporation | Dollar General Corporation.
20071023 | The Investment Dar Company K.S.C | Ford Motor Company | Aston Martin Lagonda Group Limited.
20071027 | Summit Partners Private Equity VII-A, L.P.P | Willis Stein & Partners, L.P | National Veterinary Associates Holdings, Inc.
20071033 | Cortec Group Fund IV, L.P | The Hygenic Acquisition Co | The Hygenic Acquisition Co.
20071036 | Eisai Co., Ltd | Morphotek, Inc | Morphotek, Inc.
TRANSACTIONS GRANTED EARLY TERMINATION—04/04/2007
20070901 | M & F Worldwide Corp | John H. Harland Company | John H. Harland Company.
20071017 | JetDirect Aviation LLC | Sentient Jet, Inc | Sentient Jet, Inc.
20071025 | NC VI Limited | Brightpoint, Inc | Brightpoint, Inc.
20071041 | Olam International Limited | Queensland Cotton Holdings Limited | Queensland Cotton Holdings Limited.
TRANSACTIONS GRANTED EARLY TERMINATION—04/05/2007
20070987 | Third Point Offshore Fund, Ltd | PDL BioPharma, Inc | PDL BioPharma, Inc.
20071008 | Global Partners LP | ExxonMobil Corporation | ExxonMobil Corporation.
20071021 | The Marcus Corporation | Cinema Entertainment Corporation | Cinema Entertainment Corporation.
TRANSACTIONS GRANTED EARLY TERMINATION—04/06/2007
20070290 | Cemex, S.A.B. de C.V | Rinker Group Limited | Rinker Group Limited.
20071018 | Cisco Systems, Inc | WebEx Communications, Inc | WebEx Communications, Inc.
TRANSACTIONS GRANTED EARLY TERMINATION—04/09/2007
20071049 | David and Gail Liniger | Stephen A. Haselton | C&H Productions, Inc., RE/MAX of California & Hawaii Inc.
20071050 | David and Gail Liniger | Sidney K. Syvertson | C&H Productions, Inc.
TRANSACTIONS GRANTED EARLY TERMINATION—04/10/2007
20070996 | Jean-Claude Labrune | Dendrite International, Inc | Dendrite International, Inc.
TRANSACTIONS GRANTED EARLY TERMINATION—04/11/2007
20070958 | Warburg Pincus Private Equity IX LP | CB Holdings, Inc | CB Holdings, Inc.
20071026 | FairPoint Communications, Inc | Northern New England Spinco Inc | Northern New England Spinco Inc.
20071032 | Edwards UKCo 1 Limited | Linde AG | BOC Edwards Brasil Limitada, BOC Edwards Chemical Management Europe Limited, BOC Edwards GmbH, BOC Edwards HTC Limited, BOC Edwards, Inc., BOC Edwards Japan Limited, BOC Edwards Services s.r.o., BOC Edwards S.p.A., BOC Edwards, s.r.o., BOC Edwards Vacuum Engineering (Shanghai) Company Limited, BOC (Europe) Holdings Limited, BOC Technologies Sdn Bhd, BOC Technologies Singapore Pte Limited, BOC Trading (Shanghai Company Limited, Edwards High Vacuum International Limited, Edwards India Private Limited, Edwards Israel Vaccum Limited, Edwards SAS, Edwards Technologies Limited, Hibon International SA, Societe de Mecanique Magnetique SA, Songwon Edwards Limited.
20071035 | Francisco Partners II, L.P | Aeroflex Incorporated | Aeroflex Incorporated.
20071038 | Apollo Investment Fund VI, L.P | Claire's Stores, Inc | Claire's Stores, Inc.
20071046 | City National Corporation | Lydian Trust Company | Newco, LLC.
20071048 | Dayton-Cox Trust A | Discovery Holding Company | Newco.
20071051 | JPMorgan Chase & Co | Vertrue Incorporated | Vertrue Incorporated.
20071053 | Best Buy Co., Inc | Speakeasy, Inc | Speakeasy, Inc.
20071054 | JLL Partners Fund V, L.P | Melrose PLC | Linread Limited, Melrose US 3 LLC, Technical Airborne Components Limited.
20071057 | Blackstone Capital Partners V L.P | PHH Corporation | Atrium Insurance Corporation, Bishop's Gate Residential Mortgage Trust, Haddonfield Holding Corporation, PHH Broker Partner Corporation, PHH Mortgage Corporation, Speedy Title and Appraisal Review Services LLC.
20071059 | Mitsui & Co., Ltd | Steel Technologies Inc | Steel Technologies Inc.
20071060 | Odewald & Compagnie GmbH & Co | IWKA Aktiengesellschaft | IWKA Packaging Vewaltungs GmbH.
TRANSACTIONS GRANTED EARLY TERMINATION—04/12/2007
20070737 | General Electric Company | Smiths Group plc | Smiths Aerospace Group Ltd.
20071009 | Microsoft Corporation | Tellme Networks, Inc | Tellme Networks, Inc.
TRANSACTIONS GRANTED EARLY TERMINATION—04/13/2007
20070449 | Actavis Group hf | Alan P. Cohen | Abrika Pharmaceuticals, Inc.
20070980 | Pentair, Inc | Porous Media Corporation | Porous Media Corporation.
20070981 | Pentair, Inc | Porous Media Ltd | Porous Media Ltd.
20071005 | Umicore S.A./N.V | Neptune | Neptune.

For Further Information Contact: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. 07-2073 Filed 4-26-07; 8:45 am]

BILLING CODE 6750-07-M